DEPARTMENT OF HEALTH AND HUMAN SERVICES

National Institutes of Health

Notice of Establishment

Pursuant to the Federal Advisory Committee Act, as amended (5 U.S.C Appendix 2), the Director, National Institutes of Health (NIH), announces the establishment of the Renal and Urological Sciences Integrated Review Group (IRG).

The IRG shall advise the Director, National Institutes of Health (NIH), and the Director, Center for Scientific Review (CSR), on the scientific and technical merit of applications for grants-in-aid for research, research training or research-related grants and cooperative agreements, or contract proposals to investigate systemic or local diseases affecting the kidney, urinary tract, and male genital system, including but not limited to clinical, translational and fundamental studies of the disease state and its treatment as well as of normal growth, development, structure, and function.

Duration of this committee is fourteen months from the date the Charter is filed.

Dated: October 21, 2003.
Elias Zerhouni,
Director, National Institutes of Health.

[FR Doc. 03-27281 Filed 10-28-03; 8:45 am]

BILLING CODE 4140-01-M